OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Senior Executive Resource Services, Executive Resources and Employee Development, Employee Services, 202-606-2246.

SUPPLEMENTARY INFORMATION: Appearing in the listing below are the individual authorities established or revoked under Schedules A, B, and C between January 1, 2012, and January 31, 2012. These notices are published monthly in the Federal Register at www.gpoaccess.gov/fr/. A consolidated listing of all authorities as of June 30 is also published each year. The following Schedules are not codified in the Code of Federal Regulations. These are agency-specific exceptions.

Schedule A

No Schedule A authorities to report during January 2012.

Schedule B

No Schedule B authorities to report during January 2012.

Schedule C

The following Schedule C appointments were approved during January 2012.

Agency name | Organization name | Position title | Authorization number | Effective date
Department of Agriculture | Office of the Under Secretary for Rural Development | Director, Legislative and Public Affairs Staff | DA120022 | 1/17/2012
| Office of the Assistant Secretary for Congressional Relations | Staff Assistant (Legislative Analyst) | DA120024 | 1/17/2012
| Office of the Assistant Secretary for Congressional Relations | Staff Assistant | DA120021 | 1/24/2012
| Rural Housing Service | Chief of Staff | DA120025 | 1/24/2012
| Rural Utilities Service | Special Assistant | DA120026 | 1/24/2012
| Agricultural Marketing Service | Chief of Staff | DA120029 | 1/24/2012
Department of Commerce | National Oceanic and Atmospheric Administration | Senior Policy Advisor | DC120036 | 1/5/2012
| Office of White House Liaison | Special Assistant | DC120039 | 1/5/2012
| Assistant Secretary for Market Access and Compliance | Special Advisor | DC120038 | 1/9/2012
| Office of Public Affairs | Confidential Assistant | DC120051 | 1/9/2012
| Office of Public Affairs | Deputy Press Secretary | DC120042 | 1/11/2012
| Office of Assistant Secretary for Legislative and Intergovernmental Affairs | Legislative Assistant | DC120043 | 1/11/2012
| Office of the Deputy Secretary | Special Assistant | DC120050 | 1/11/2012
| Office of Business Liaison | Special Assistant | DC120052 | 1/13/2012
| Office of the Chief of Staff | Special Assistant | DC120053 | 1/17/2012
| Office of Public Affairs | Director of Speechwriting | DC120055 | 1/20/2012
| Office of Executive Secretariat | Confidential Assistant | DC120057 | 1/25/2012
| Office of Legislative and Intergovernmental Affairs | Confidential Assistant | DC120044 | 1/26/2012
Commission on Civil Rights Council on Environmental Quality Department of Defense | Commissioners | Special Assistant | CC120002 | 1/26/2012
| Council on Environmental Quality | Special Assistant | EQ120001 | 1/12/2012
| Office of the Secretary | Advance Officer | DD120019 | 1/5/2012
| Deputy Under Secretary of Defense (Logistics and Materiel Readiness) | Confidential Assistant | DD120020 | 1/5/2012
| Office of the Under Secretary of Defense (Policy) | Special Assistant (Homeland Defense and Americas' Security Affairs) | DD120022 | 1/5/2012
| Office of the Secretary | Advance Officer | DD120018 | 1/6/2012
| Office of Assistant Secretary of Defense (Public Affairs) | Assistant Press Secretary | DD120023 | 1/12/2012
| Office of the Secretary | Confidential Assistant | DD120025 | 1/12/2012
| Office of Assistant Secretary of Defense (Public Affairs) | Research Assistant | DD120026 | 1/12/2012
Department of Education | Office of the Secretary | Director, Scheduling and Advance Staff | DB120034 | 1/6/2012
| Office of the Under Secretary | Director, White House Initiative on Educational Excellence for Hispanic Americans | DB120027 | 1/20/2012
| Office of Communications and Outreach | Special Assistant | DB120046 | 1/27/2012
| Office of the Secretary | Special Assistant | DB120048 | 1/27/2012
| Office of the Under Secretary | Deputy Director, White House Initiative on Educational Excellence for Hispanic Americans | DB120049 | 1/27/2012
Department of Energy | Office of Public Affairs | Speechwriter | DE120035 | 1/20/2012
| Office of Public Affairs | Communications Coordinator | DE120037 | 1/20/2012
Department of Health and Human Services | Office of the Assistant Secretary for Public Affairs | Senior Advisor | DH120038 | 1/26/2012
| Office of the Commissioner | Senior Advisor | DH120037 | 1/27/2012
Department of Homeland Security | Office of the Assistant Secretary for Policy | Policy Analyst | DM120039 | 1/3/2012
| Office of the Under Secretary for National Protection and Programs Directorate | Cybersecurity Strategist | DM120050 | 1/17/2012
Department of Housing and Urban Development | Office of Public Affairs | Assistant Press Secretary | DU120023 | 1/9/2012
Department of the Interior | Secretary's Immediate Office | Trip Director | DI120025 | 1/23/2012
| Secretary's Immediate Office | Special Assistant | DI120023 | 1/26/2012
| Office of the Solicitor | Counselor | DI120026 | 1/27/2012
Department of Justice | Antitrust Division | Chief of Staff and Counsel | DJ120018 | 1/4/2012
| Civil Division | Senior Counsel | DJ120021 | 1/12/2012
| National Security Division | Counsel | DJ120024 | 1/30/2012
Department of Labor | Office of Public Affairs | Special Assistant | DL120023 | 1/13/2012
Small Business Administration | Office of Communications and Public Liaison | Deputy Assistant Administrator for Communications and Public Liaison | SB120009 | 1/6/2012
Department of State | Bureau of Public Affairs | Senior Advisor | DS120020 | 1/12/2012
Department of Transportation | Immediate Office of the Administrator | Associate Administrator for Governmental, International, and Public Affairs | DT120017 | 1/3/2012
| Office of Congressional Affairs | Associate Director of Congressional Affairs | DT120019 | 1/3/2012
| Assistant Secretary for Transportation Policy | Deputy Director for Public Engagement | DT120025 | 1/13/2012
| Public Affairs | Deputy Director of Public Affairs | DT120023 | 1/17/2012
| Assistant Secretary for Transportation Policy | Associate Director for Transportation Policy | DT120024 | 1/17/2012
| Associate Administrator for Public Affairs | Associate Administrator for Communications and Legislative Affairs | DT120018 | 1/26/2012
| Public Affairs | Press Secretary | DT120026 | 1/26/2012
| Secretary | Advance Specialist | DT120027 | 1/26/2012
Department of the Treasury | Secretary of the Treasury | Deputy Executive Secretary | DY120057 | 1/26/2012

The following Schedule C appointing authorities were revoked during January 2012.

Agency | Organization | Position title | Authorization number | Effective date
Department of Agriculture | Rural Housing Service | Special Assistant to the Administrator | DA100116 | 1/28/2012
| Risk Management Agency | Confidential Assistant | DA100162 | 1/28/2012
| Food Safety and Inspection Service | Senior Advisor | DA100176 | 1/28/2012
Department of Commerce | Office of Under Secretary | Special Assistant | DC090182 | 1/7/2012
| Office of Public Affairs | Deputy Director for Public Affairs | DC110118 | 1/13/2012
Department of Commerce | Office of Executive Secretariat | Confidential Assistant | DC100129 | 1/14/2012
| Department of Commerce | Confidential Assistant | DC100077 | 1/23/2012
| Office of the Chief of Staff | Confidential Assistant | DC100120 | 1/28/2012
Department of Education | Office of the Under Secretary | Deputy Director, White House Initiative on Educational Excellence for Hispanic Americans | DB110083 | 1/28/2012
Department of Energy | Assistant Secretary for Energy Efficiency and Renewable Energy | Special Assistant | DE090182 | 1/4/2012
| Office of Public Affairs | New Media Specialist | DE090115 | 1/20/2012
Department of Homeland Security | Office of Operations Coordination and Planning Directorate | Special Assistant to the Chief of Staff | DM090379 | 1/4/2012
| Office of the Assistant Secretary for Public Affairs | Deputy Assistant Secretary for Strategic Communications | DM110031 | 1/10/2012
| Office of the Assistant Secretary for Policy | Policy Analyst | DM110238 | 1/13/2012
| Office of the Assistant Secretary for Public Affairs | Deputy Press Secretary | DM110252 | 1/20/2012
Department of Housing and Urban Development | Office of Public Affairs | General Deputy Assistant Secretary for Public Affairs | DU090079 | 1/14/2012
| Office of Policy Development and Research | Deputy Assistant Secretary for policy Development | DU090070 | 1/14/2012
| Office of Public Affairs | Press Assistant | DU100110 | 1/14/2012
Department of Justice | Antitrust Division | Counsel | DJ100163 | 1/14/2012
| Environment and Natural Resources Division | Counsel and Chief of Staff | DJ100067 | 1/21/2012
Department of Labor | Office of the Secretary | Special Assistant | DL110044 | 1/14/2012
Department of the Interior | Secretary's Immediate Office | Special Assistant | DI110050 | 1/22/2012
Department of the Treasury | Secretary of the Treasury | Deputy Executive Secretary | DY110060 | 1/27/2012
Department of Transportation | Public Affairs | Deputy Director of Public Affairs | DT090095 | 1/13/2012
| Secretary | Special Assistant | DT090115 | 1/16/2012
| Administrator | Director, Office of Congressional and Public Affairs | DT100042 | 1/16/2012
| Public Affairs | Deputy Press Secretary | DT100006 | 1/28/2012
Office of the Secretary of Defense | Office of the Secretary | Personal and Confidential Assistant | DD090099 | 1/14/2012
| Office of the Secretary | Confidential Assistant | DD090197 | 1/14/2012
| Washington Headquarters Services | Defense Fellow | DD110056 | 1/14/2012
| Office of Assistant Secretary of Defense (Public Affairs) | Special Assistant | DD100134 | 1/16/2012
Small Business Administration | Office of Communications and Public Liaison | Press Secretary | SB090043 | 1/14/2012
| Office of Communications and Public Liaison | Speechwriter | SB090037 | 1/21/2012
| Office of Communications and Public Liaison | Press Assistant | SB100002 | 1/27/2012
Trade and Development Agency | Office of the Director | Chief of Staff | TD100001 | 1/6/2012

Authority: 5 U.S.C. 3301 and 3302; E.O. 10577, 3 CFR 1954-1958 Comp., p. 218.

U.S. Office of Personnel Management.
John Berry,
Director.

[FR Doc. 2012-13138 Filed 5-30-12; 8:45 am]

BILLING CODE 6325-39-P